DEPARTMENT OF ENERGY

Federal Energy Regulatory Commission

[Docket No. RP00-532-000]

Eastern Shore Natural Gas Company; Notice of Refund Report

September 7, 2000.

Take notice that on September 5, 2000, Eastern Shore Natural Gas Company (Eastern Shore) tendered for filing a refund report for the period April 1, 1999 through March 31, 2000 in accordance with Sections 31 and 35 of the General Terms and Conditions of its FERC Gas Tariff, Second Revised Volume No. 1.

Eastern Shore states that copies of this filing have been served upon Eastern Shore's customers and state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 14, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23440 Filed 9-12-00; 8:45 am]

BILLING CODE 6717-01-M